DEPARTMENT OF COMMERCE

International Trade Administration

[A-823-808]

Notice of Extension of Time Limits for the Preliminary Results of Administrative Review of the Suspension Agreement on Certain Cut-to-Length Carbon Steel Plate from Ukraine

AGENCY: Import Administration, International Trade Administration, Department of Commerce.

ACTION: Notice of Extension of Time Limits for the Preliminary Results of Administrative Review of the Suspension Agreement on Certain Cut-to-Length Carbon Steel Plate from Ukraine.

SUMMARY: The Department of Commerce (the Department) is extending the time limits for the preliminary results of the administrative review on the suspension agreement on cut-to-length carbon steel plate from Ukraine.

EFFECTIVE DATE: July 1, 2002.

FOR FURTHER INFORMATION CONTACT: Patricia Tran at (202) 482-1121 or Robert James at (202) 482-0649, Antidumping and Countervailing Duty Enforcement Group III, Office Eight, Import Administration, International Trade Administration, U.S. Department of Commerce, 14th Street and Constitution Avenue NW, Washington, DC 20230.

SUPPLEMENTARY INFORMATION:

EXTENSION OF PRELIMINARY RESULTS:

The Department published its notice of initiation of this review in the Federal Register on December 19, 2001. See Initiation of Antidumping and Countervailing Duty Administrative Reviews, 66 FR 65470. Pursuant to the time limits for administrative reviews set forth in section 751(a)(3)(A) of the Tariff Act of 1930, as amended (the Tariff Act), the current deadlines are August 2, 2002 for the preliminary results and November 30, 2002 for the final results. Because the Department must collect additional information regarding the suspension agreement and entry requirements of the subject merchandise into the United States, it is not practicable to complete this review within the normal statutory time limit. Therefore, the Department is extending the time limits for completion of the preliminary results until December 2, 2002 in accordance with section 751(a)(3)(A) of the Tariff Act. The deadline for the final results of this review will continue to be 120 days after publication of the preliminary results.

This extension is in accordance with section 751(a)(3)(A) of the Tariff Act.

Dated: June 24, 2002
Joseph A. Spetrini,
Deputy Assistant Secretary for Import Administration, Group III.

[FR Doc. 02-16506 Filed 6-28-02; 8:45 am]

BILLING CODE 3510-DS-S